EQUAL EMPLOYMENT OPPORTUNITY COMMISSION

SES Performance Review Board—Appointment of Members

AGENCY: Equal Employment Opportunity Commission.

ACTION: Notice.

SUMMARY: Notice is hereby given of the appointment of members to the Performance Review Board of the Equal Employment Opportunity Commission.

FOR FURTHER INFORMATION CONTACT: Lisa M. Williams, Chief Human Capital Officer, U.S. Equal Employment Opportunity Commission, 131 M Street NE., Washington, DC 20507, (202) 663-4306.

SUPPLEMENTARY INFORMATION: Publication of the Performance Review Board (PRB) membership is required by 5 U.S.C. 4314(c)(4). The PRB reviews and evaluates the initial appraisal of a senior executive's performance by the supervisor, and makes recommendations to the Chair, EEOC, with respect to performance ratings, pay level adjustments and performance awards.

The following are the names and titles of executives appointed to serve as members of the SES PRB. Members will serve a 12-month term, which begins on November 18, 2013.

PRB Chair

Mr. Dexter R. Brooks, Director, Federal Sector Programs, Office of Federal Operations, Equal Employment Opportunity Commission.

Members

Mr. Kevin J. Berry, Director, New York District Office, Equal Employment Opportunity Commission;

Ms. Katherine E. Bissell, Deputy Solicitor for Regional Enforcement, Department of Labor;

Ms. Kathryn A. Ellis, Assistant General Counsel, Division of Educational Equity and Research, and Agency Dispute Resolution Specialist, Department of Education;

Ms. Gwendolyn Y. Reams, Associate General Counsel, Equal Employment Opportunity Commission;

Alternate

Ms. Delner Franklin-Thomas, Director, Birmingham District Office, Equal Employment Opportunity Commission.

By the direction of the Commission.
Dated: November 15, 2013.
Jacqueline A. Berrien,
Chair.

[FR Doc. 2013-28538 Filed 11-26-13; 8:45 am]

BILLING CODE 6570-01-P